DEPARTMENT OF ENERGY

Federal Energy Regulatory Commission

Combined Notice of Filings #1

Take notice that the Commission received the following electric rate filings:

Docket Numbers: ER10-2633-025; ER10-2570-025; ER10-2717-025; ER10-3140-025; ER13-55-015.

Applicants: Birchwood Power Partners, L.P., Shady Hills Power Company, L.L.C., EFS Parlin Holdings, LLC, Inland Empire Energy Center, LLC, Homer City Generation, L.P.

Description: Notice of Non-Material Change in Status of the GE Companies.

Filed Date: 7/7/16.

Accession Number: 20160707-5217.

Comments Due: 5 p.m. ET 7/28/16.

Docket Numbers: ER12-316-001.

Applicants: NorthWestern Corporation.

Description: Report Filing: Refund Report for Refunds to Schedule 3 Customers, ER10-1138 & ER12-316 to be effective N/A.

Filed Date: 7/8/16.

Accession Number: 20160708-5046.

Comments Due: 5 p.m. ET 7/29/16.

Docket Numbers: ER13-2107-011; ER13-2020-011; ER13-2050-011.

Applicants: Solar Partners I, LLC, Solar Partners II, LLC, Solar Partners VIII, LLC.

Description: Notification of Change in Status of Ivanpah MBR Sellers.

Filed Date: 7/7/16.

Accession Number: 20160707-5232.

Comments Due: 5 p.m. ET 7/28/16.

Docket Numbers: ER16-1610-002.

Applicants: V3 Commodities Group, LLC.

Description: Notice of Non-Material Change in Status of V3 Commodities Group, LLC.

Filed Date: 7/7/16.

Accession Number: 20160707-5231.

Comments Due: 5 p.m. ET 7/28/16.

Docket Numbers: ER16-1706-001.

Applicants: Upper Peninsula Power Company.

Description: Tariff Amendment: Amended Common Facilities Agreement to be effective 7/16/2016.

Filed Date: 7/8/16.

Accession Number: 20160708-5067.

Comments Due: 5 p.m. ET 7/29/16.

Docket Numbers: ER16-2144-000.

Applicants: Phillips 66 Company.

Description: Section 205(d) Rate Filing: Amendment to Market-Based Rate Schedule to be effective 7/8/2016.

Filed Date: 7/7/16.

Accession Number: 20160707-5194.

Comments Due: 5 p.m. ET 7/28/16.

Take notice that the Commission received the following qualifying facility filings:

Docket Numbers: QF16-996-000.

Applicants: SunSelect Produce (California), Inc.

Description: Form 556 of SunSelect Produce (California), Inc.

Filed Date: 6/21/16.

Accession Number: 20160621-5201.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2016.
Nathaniel J. Davis, Sr.,
Deputy Secretary.

[FR Doc. 2016-16660 Filed 7-13-16; 8:45 am]

BILLING CODE 6717-01-P